DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Transformation Accountability (TRAC) Reporting System —(OMB No. 0930-0285)—Revision

SAMHSA's CMHS is requesting approval for a revision to the National Outcome Measures (NOMs) for Consumers Receiving Mental Health Services. The name of this data collection effort is revised to the Transformation Accountability (TRAC) Reporting System (hereafter referred to as TRAC) to enable SAMHSA CMHS to consolidate its performance reporting activities within one package. This request includes a revision of the currently approved client-level data collection effort for programs providing direct services; additional questions will enable CMHS to more fully explain grantee performance in relation to Agency and/or program objectives. This request also includes the addition of data collection from Project Directors of grants engaged in infrastructure development, prevention, and mental health promotion activities. These new instruments will enable SAMHSA CMHS to capture a standardized set of performance indicators using a uniform reporting method.

These proposed data activities are intended to promote the use of consistent measures among CMHS grantees and technical assistance contractors. These common measures recommended by CMHS are a result of extensive examination and recommendations, using consistent criteria, by panels of staff, experts, and grantees. Wherever feasible, the proposed measures are consistent with or build upon previous data development efforts within CMHS. These data collection activities will be organized to reflect and support the domains specified for SAMHSA's NOMs for programs providing direct services, and the categories developed by CMHS to specify infrastructure development, prevention, and mental health promotion activities.

Client-Level Data Collection

The currently approved data collection effort for the SAMHSA CMHS programs that provide direct services to consumers includes separate data collection forms that are parallel in design for use in interviewing adults and children (or their caregivers for children under the age of 11 years old). These SAMHSA TRAC data will be collected at baseline, at six month reassessments for as long as the consumer receives services, and at discharge. The proposed data collection encompasses eight of the ten SAMHSA NOMs domains.

Domain | Number of questions: adult | Number of questions: caregiver and child/adolescent
Access/Capacity | 4 | 4
Functioning | 28 | 26
Stability in Housing | 1 | 2
Education and Employment | 4 | 3
Crime and Criminal Justice | 1 | 1
Perception of Care | 15 | 14
Social Connectedness | 4 | 4
Retention ¹ | 5 | 5
Total Number | 63 | 59
¹ Retention is defined as retention in the community. The indicator is based on use of psychiatric inpatient services, which is based on a measure from the Stability in Housing Domain.

Changes to the current instruments include the following:

• The administrative section of all instruments was changed to allow grantees to capture and track when consumers refuse interviews, consent cannot be obtained from proxy, and consumers are impaired or unable to provide consent. The administrative section of the children's instruments was additionally changed to capture whether the respondent is the child or his/her caregiver.

• Questions were added to all instruments to capture general health, psychological functioning, life in the community, and substance use.

• CMHS reduced the data collection requirement for 3-month programs to be consistent with 6-month programs; all grant programs will now be required to collect the client-level interviews in 6-month intervals, and CMHS will require the completion of clinical discharge interviews.

In addition to questions asked of consumers as listed above, programs will be required to abstract information from consumer records regarding the services provided. The time to complete the revised instruments is estimated as shown below. These estimates are based on grantee reports of the amount of time required to complete the currently approved instruments accounting for the additional time required to complete the new questions, as based on an informal pilot.

Infrastructure Development, Prevention, and Mental Health Promotion Performance Data Collection

CMHS has identified categories and associated grant- or community-level indicators to assess performance of grant programs engaged in infrastructure development, prevention, and mental health promotion activities. Upon approval of the indicators, a Web-based data entry system will be developed to capture this performance data for all CMHS-funded grants engaged in infrastructure development, prevention, and mental health promotion activities. Not all categories or indicators will apply to every grant program; CMHS Program Directors will be responsible for determining whether a category (or an indicator within a category) applies to each grant program, establishing targets at the grant level, and monitoring data submission. The following table summarizes the total number of indicators for each category that may or may not apply to each grant program:

Category | Number of indicators
Policy Development | 2
Workforce Development | 5
Financing | 3
Organizational Change | 1
Partnerships/Collaborations | 2
Accountability | 6
Types/Targets of Practices | 4
Awareness | 1
Training | 1
Knowledge/Attitudes/Beliefs | 1
Screening | 1
Outreach | 2
Referral | 1
Access | 1
Total Number | 31

Grantee Project Directors will be responsible for submitting data pertaining to these indicators quarterly. The use of standardized domains and data collection approaches will enhance aggregate data development and reporting.

Following is the estimated annual response burden for this effort.

Estimate of Annual Response Burden
Type of response | Number of respondents | Responses per respondent | Total responses | Hours per response | Total hour burden
Client-level baseline interview | 15,681 | 1 | 15,681 | 0.333 | 5,222
Client-level 6-month reassessment interview | 10,646 | 1 | 10,646 | 0.367 | 3,907
Client-level discharge interview | 4,508 | 1 | 4,508 | 0.367 | 1,655
Client-level baseline chart abstraction | 2,352 | 1 | 2,352 | 0.1 | 235
Client-level reassessment chart abstraction | 9,017 | 1 | 9,017 | 0.1 | 902
Client-level Subtotal | 15,681 |  | 15,681 |  | 11,920
Infrastructure development, prevention, and mental health promotion quarterly record abstraction | 942 | 4 | 3,768 | 4 | 15,072
Total | 16,623 |  |  |  | 26,992

Written comments and recommendations concerning the proposed information collection should be sent by April 23, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 17, 2010.
Elaine Parry,
Director, Office of Program Services.

[FR Doc. 2010-6457 Filed 3-23-10; 8:45 am]

BILLING CODE 4162-20-P